DEPARTMENT OF ENERGY

Federal Energy Regulatory Commission

[Docket No. RP00-56-001]

Northwest Pipeline Corporation; Notice of Compliance Report

June 5, 2000.

Take notice that on June 1, 2000, Northwest Pipeline Corporation (Northwest) tendered for filing a compliance report.

Northwest states that the compliance report shows that during the 1999-2000 winter heating season, Northwest did not cut any primary gas during the timely scheduling process and that there were no adverse impacts associated with the letter Agreement dated August 24, 1999 between Northwest and Pan Alberta Gas (U.S.) Inc. with respect to the use of firm transportation through primary corridor rights.

Northwest states that a copy of this compliance report has been served upon each person designated on the official service list compiled by the Secretary in this proceeding.

Any person desiring to protest said filing should file a protest with the Federal Energy Regulatory Commission, 888 First Street, NE., Washington, DC 20426, in accordance with section 385.211 of the Commission's Rules and Regulations. All such protests must be filed on or before June 12, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14562 Filed 6-8-00; 8:45 am]

BILLING CODE 6717-01-M